ENVIRONMENTAL PROTECTION AGENCY

40 CFR Part 52

[EPA-R10-OAR-2019-0403; FRL-10001-24-Region 10]

Air Plan Approval: ID; Update to CRB Fee Billing Procedures; Withdrawal of Direct Final Rule

AGENCY: Environmental Protection Agency (EPA).

ACTION: Withdrawal of direct final rule.

SUMMARY: Due to the receipt of an adverse comment, the Environmental Protection Agency (EPA) is withdrawing the direct final rule approving revisions to the Idaho State Implementation Plan (SIP) relating to Idaho crop residue burning fee billing procedures, published on September 3, 2019.

DATES: The direct final rule published on September 3, 2019 (84 FR 45918), is withdrawn effective October 21, 2019.

FOR FURTHER INFORMATION CONTACT: Randall Ruddick at (206) 553-1999, or ruddick.randall@epa.gov, U.S. Environmental Protection Agency, Region 10, 1200 6th Avenue, Suite 155-15-H13, Seattle, WA 98101-3188.

SUPPLEMENTARY INFORMATION: Because EPA received adverse comment, we are withdrawing the direct final rule approving revisions to the Idaho SIP relating to revisions to the Idaho crop residue burning fee billing procedures, published on September 3, 2019 (84 FR 45918). We stated in that direct final rule that if we received adverse comment by October 3, 2019, we would publish a timely withdrawal in the Federal Register and the direct final rule would not take effect. We subsequently received an adverse comment on that direct final rule prior to October 3, 2019. Accordingly, we are withdrawing the direct final rule. We will address the comment in a subsequent final action based upon the parallel proposed rule also published on September 3, 2019 (84 FR 45930). As stated in the direct final rule and the parallel proposed rule, we will not institute a second comment period on this action.

List of Subjects in 40 CFR Part 52

Environmental protection, Air pollution control, Incorporation by reference, Intergovernmental relations.

Authority: 42 U.S.C. 7401 et seq.

Dated: October 9, 2019.
Michelle L. Pirzadeh,
Acting Regional Administrator, Region 10.

PART 52—APPROVAL AND PROMULGATION OF IMPLEMENTATION PLANS

Accordingly, the amendments to 40 CFR 52.670 published in the Federal Register on September 3, 2019 (84 FR 45918) on pages 45919-45920 are withdrawn effective October 21, 2019.

[FR Doc. 2019-22813 Filed 10-18-19; 8:45 am]

BILLING CODE 6560-50-P